DEPARTMENT OF TRANSPORTATION

Office of the Secretary

Aviation Proceedings, Agreements Filed the Week Ending December 3, 2011

The following Agreements were filed with the Department of Transportation under the sections 412 and 414 of the Federal Aviation Act, as amended (49 U.S.C. 1382 and 1384) and procedures governing proceedings to enforce these provisions. Answers may be filed within 21 days after the filing of the application.

Docket Number: DOT-OST-2011-0218.

Date Filed: November 30, 2011.

Parties: Members of the International Air Transport Association.

Subject:

Composite Passenger Tariff Coordinating Conference Singapore, 14 October 2011.

Composite Resolution 017i.

(Memo PTC COMP 1652,).

Intended Effective Date: 1 April 2012.

Docket Number: DOT-OST-2011-0219.

Date Filed: November 30, 2011.

Parties: Members of the International Air Transport Association.

Subject

:

Composite Passenger Tariff Coordinating Conference Singapore, 14 October 2011,

Composite Resolution 011b.

(Memo PTC COMP 1653.)

Intended Effective Date: 1 June 2012.

Docket Number: DOT-OST-2011-0220.

Date Filed: November 30, 2011.

Parties: Members of the International Air Transport Association.

Subject:

Composite Passenger Tariff Coordinating Conference Singapore, 14 October 2011.

Composite Resolutions 012, 017c.

(Memo PTC COMP 1654.)

Intended Effective Date: 1 April 2012.

Docket Number: DOT-OST-2011-0221.

Date Filed: November 30, 2011.

Parties: Members of the International Air Transport Association.

Subject:

Composite Passenger Tariff Coordinating Conference Singapore, 14 October 2011.

Composite Resolutions 010o.

(Memo PTC COMP 1655.)

Composite Passenger Tariff Coordinating Conference Singapore, 14 October 2011 Minutes,

(Memo PTC COMP 1656.)

Intended Effective Date: 30 January 2012.

Docket Number: DOT-OST-2011-0222.

Date Filed: November 30, 2011.

Parties: Members of the International Air Transport Association.

Subject

.

Mail Vote 695.

TC3 Special Passenger Amending Resolution 010n.

Special Passenger Amending Resolution between China (excluding Hong Kong SAR and Macao SAR) and Japan.

(Memo 1440.)

Intended Effective Date: December 15, 2011.

Renee V. Wright,
Program Manager, Docket Operations Federal Register Liaison.

[FR Doc. 2011-32606 Filed 12-20-11; 8:45 am]

BILLING CODE 4910-9X-P